DEPARTMENT OF AGRICULTURE

Forest Service

Media Outlets for Publication of Legal and Action Notices in the Southern Region

AGENCY: Forest Service, USDA.

ACTION: Notice.

SUMMARY: This notice lists the newspapers that will be used by all U.S. Forest Service Ranger Districts, Forests, and the Regional Office of the Southern Region to publish legal notices required under 36 CFR 214, 218, and 219. The intended effect of this action is to inform interested members of the public which newspapers the Forest Service will use to publish notices of proposed actions, notices of decision, and notices of opportunity to file an appeal/objection. This will provide the public with constructive notice of Forest Service proposals and decisions, provide information on the procedures to comment, appeal, or object and establish the date that the Forest Service will use to determine if comments, appeals, or objections were timely.

DATES: Publication of legal notices in the listed newspapers will begin on the date of this publication and remain in effect until another notice is published in the Federal Register.

ADDRESSES: USDA Forest Service, Southern Region; ATTN: Regional Administrative Review Coordinator; 1720 Peachtree Road NW., Atlanta, Georgia 30309.

FOR FURTHER INFORMATION CONTACT: David Harris, Regional Environmental Coordinator, Southern Region, 1720 Peachtree Road NW., Atlanta, Georgia 30309, Phone: 404/347-5292.

SUPPLEMENTARY INFORMATION: In addition to the primary newspaper listed for each unit, some Forest Supervisors and District Rangers have listed newspapers providing additional notice of their decisions. The timeframe for filing comment, appeal or an objection shall be based on the date of publication of the notice in the first (primary) newspaper listed for each unit.

Southern Region

Regional Forester Decisions

Affecting National Forest System lands in more than one Administrative unit of the 15 in the Southern Region, Atlanta Journal-Constitution, published daily in Atlanta, GA.

Affecting National Forest System lands in only one Administrative unit or only one Ranger District will appear in the newspaper of record elected by the National Forest, National Grassland, National Recreation Area, or Ranger District as listed below.

National Forests in Alabama, Alabama

Forest Supervisor Decisions

Affecting National Forest System lands in more than one Ranger District of the 6 in the National Forests in Alabama, Montgomery Advertiser, published daily in Montgomery, AL. Affecting National Forest System lands in only one Ranger District will appear in the newspaper of record elected by the Ranger District as listed below.

District Ranger Decisions

Bankhead Ranger District: Northwest Alabamian, published bi-weekly (Wednesday & Saturday) in Haleyville, AL

Conecuh Ranger District: The Andalusia Star News, published daily (Tuesday through Saturday) in Andalusia, AL

Oakmulgee Ranger District: The Tuscaloosa News, published daily in Tuscaloosa, AL

Shoal Creek Ranger District: The Anniston Star, published daily in Anniston, AL

Talladega Division: The Anniston Star, published daily in Anniston, AL

Talladega Ranger District: The Daily Home, published daily in Talladega, AL

Tuskegee Ranger District: Tuskegee News, published weekly (Thursday) in Tuskegee, AL

Chattahoochee-Oconee National Forest, Georgia

Forest Supervisor Decisions

The Times, published daily in Gainesville, GA

District Ranger Decisions

Blue Ridge Ranger District: The News Observer (newspaper of record) published bi-weekly (Tuesday & Friday) in Blue Ridge, GA

North Georgia News, (newspaper of record) published weekly (Wednesday) in Blairsville, GA

Conasauga Ranger District: Daily Citizen, published daily in Dalton, GA

Chattooga River Ranger District: The Northeast Georgian, (newspaper of record) published bi-weekly (Wednesday & Friday) in Cornelia, GA

Clayton Tribune, (newspaper of record) published weekly (Thursday) in Clayton, GA

The Toccoa Record, (secondary) published weekly (Thursday) in Toccoa, GA

White County News, (secondary) published weekly (Thursday) in Cleveland, GA

Oconee Ranger District: Eatonton Messenger, published weekly (Thursday) in Eatonton, GA

Cherokee National Forest, Tennessee

Forest Supervisor Decisions

Knoxville News Sentinel, published daily in Knoxville, TN

District Ranger Decisions

Unaka Ranger District: Greeneville Sun, published daily (except Sunday) in Greeneville, TN

Ocoee-Hiwassee Ranger District: Polk County News, published weekly (Wednesday) in Benton, TN

Tellico Ranger District: Monroe County Advocate & Democrat, published tri-weekly (Wednesday, Friday, and Sunday) in Sweetwater, TN

Watauga Ranger District: Johnson City Press, published daily in Johnson City, TN

Daniel Boone National Forest, Kentucky

Forest Supervisor Decisions

Lexington Herald-Leader, published daily in Lexington, KY

District Ranger Decisions

Cumberland Ranger District: The Morehead News, published bi-weekly (Tuesday and Friday) in Morehead, KY

London Ranger District: The Sentinel-Echo, published tri-weekly (Monday, Wednesday, and Friday) in London, KY

Redbird Ranger District: Manchester Enterprise, published weekly (Thursday) in Manchester, KY

Stearns Ranger District: The McCreary Voice, published weekly (Thursday) in Whitley City, KY

El Yunque National Forest, Puerto Rico

Forest Supervisor Decisions

El Nuevo Dia, published daily in Spanish in San Juan, PR

Puerto Rico Daily Sun, published daily in English in San Juan, PR

National Forests in Florida, Florida

Forest Supervisor Decisions

The Tallahassee Democrat, published daily in Tallahassee, FL

District Ranger Decisions

Apalachicola Ranger District: Calhoun-Liberty Journal, published weekly (Wednesday) in Bristol, FL

Lake George Ranger District: The Ocala Star Banner, published daily in Ocala, FL

Osceola Ranger District: The Lake City Reporter, published daily (Monday-Saturday) in Lake City, FL

Seminole Ranger District: The Daily Commercial, published daily in Leesburg, FL

Wakulla Ranger District: The Tallahassee Democrat, published daily in Tallahassee, FL

Francis Marion & Sumter National Forests, South Carolina

Forest Supervisor Decisions

The State, published daily in Columbia, SC

District Ranger Decisions

Andrew Pickens Ranger District: The Daily Journal, published daily (Tuesday through Saturday) in Seneca, SC

Enoree Ranger District: Newberry Observer, published tri-weekly (Monday, Wednesday, and Friday) in Newberry, SC

Long Cane Ranger District: Index-Journal, published daily in Greenwood, SC

Wambaw Ranger District: Post and Courier, published daily in Charleston, SC

Witherbee Ranger District: Post and Courier, published daily in Charleston, SC

George Washington and Jefferson National Forests, Virginia and West Virginia

Forest Supervisor Decisions

Roanoke Times, published daily in Roanoke, VA

District Ranger Decisions

Clinch Ranger District: Coalfield Progress, published bi-weekly (Tuesday and Friday) in Norton, VA

North River Ranger District: Daily News Record, published daily (except Sunday) in Harrisonburg, VA

Glenwood-Pedlar Ranger District: Roanoke Times, published daily in Roanoke, VA

James River Ranger District: Virginian Review, published on Tuesday, Thursday and Saturday in Covington, VA

Lee Ranger District: Shenandoah Valley Herald, published weekly (Wednesday) in Woodstock, VA

Mount Rogers National Recreation Area: Bristol Herald Courier, published daily in Bristol, VA

Eastern Divide Ranger District: Roanoke Times, published daily in Roanoke, VA

Warm Springs Ranger District: The Recorder, published weekly (Thursday) in Monterey, VA

Kisatchie National Forest, Louisiana

Forest Supervisor Decisions

The Town Talk, published daily in Alexandria, LA

District Ranger Decisions

Calcasieu Ranger District: The Town Talk, (newspaper of record) published daily in Alexandria, LA

The Leesville Daily Leader, (secondary) published daily in Leesville, LA

Caney Ranger District: Minden Press Herald, (newspaper of record) published daily in Minden, LA

Homer Guardian Journal, (secondary) published weekly (Wednesday) in Homer, LA

Catahoula Ranger District: The Town Talk, published daily in Alexandria, LA

Kisatchie Ranger District: Natchitoches Times, published daily (Tuesday thru Friday and on Sunday) in Natchitoches, LA

Winn Ranger District: Winn Parish Enterprise, published weekly (Wednesday) in Winnfield, LA

Land Between The Lakes National Recreation Area, Kentucky and Tennessee

Area Supervisor Decisions

The Paducah Sun, published daily in Paducah, KY

National Forests in Mississippi, Mississippi

Forest Supervisor Decisions

Clarion-Ledger, published daily in Jackson, MS

District Ranger Decisions

Bienville Ranger District: Clarion-Ledger, published daily in Jackson, MS

Chickasawhay Ranger District: Clarion-Ledger, published daily in Jackson, MS

Delta Ranger District: Clarion-Ledger, published daily in Jackson, MS

De Soto Ranger District: Clarion Ledger, published daily in Jackson, MS

Holly Springs Ranger District: Clarion-Ledger, published daily in Jackson, MS

Homochitto Ranger District: Clarion-Ledger, published daily in Jackson, MS

Tombigbee Ranger District: Clarion-Ledger, published daily in Jackson, MS

National Forests in North Carolina, North Carolina

Forest Supervisor Decisions

The Asheville Citizen-Times, published Wednesday thru Sunday, in Asheville, NC

District Ranger Decisions

Appalachian Ranger District: The Asheville Citizen-Times, published Wednesday thru Sunday, in Asheville, NC

Cheoah Ranger District: Graham Star, published weekly (Thursday) in Robbinsville, NC

Croatan Ranger District: The Sun Journal, published daily in New Bern, NC

Grandfather Ranger District: McDowell News, published daily in Marion, NC

Nantahala Ranger District: The Franklin Press, published bi-weekly (Tuesday and Friday) in Franklin, NC

Pisgah Ranger District: The Asheville Citizen-Times, published Wednesday thru Sunday, in Asheville, NC

Tusquitee Ranger District: Cherokee Scout, published weekly (Wednesday) in Murphy, NC

Uwharrie Ranger District: Montgomery Herald, published weekly (Wednesday) in Troy, NC

Ouachita National Forest, Arkansas and Oklahoma

Forest Supervisor Decisions

Arkansas Democrat-Gazette, published daily in Little Rock, AR

District Ranger Decisions

Caddo-Womble Ranger District: Arkansas Democrat-Gazette, published daily in Little Rock, AR

Jessieville-Winona-Fourche Ranger District: Arkansas Democrat-Gazette,published daily in Little Rock, AR

Mena-Oden Ranger District: Arkansas Democrat-Gazette, published daily in Little Rock, AR

Oklahoma Ranger District (Choctaw; Kiamichi; and Tiak): McCurtain Daily Gazette, published daily in Idabel, OK

Poteau-Cold Springs Ranger District: Arkansas Democrat-Gazette, published daily in Little Rock, AR

Ozark-St. Francis National Forests, Arkansas

Forest Supervisor Decisions

The Courier, published daily (Tuesday through Sunday) in Russellville, AR

District Ranger Decisions

Bayou Ranger District: The Courier, published daily (Tuesday through Sunday) in Russellville, AR

Boston Mountain Ranger District: Southwest Times Record, published daily in Fort Smith, AR

Buffalo Ranger District: The Courier, published daily (Tuesday through Sunday) in Russellville, AR

Magazine Ranger District: Southwest Times Record, published daily in Fort Smith, AR

Pleasant Hill Ranger District: Johnson County Graphic, published weekly (Wednesday) in Clarksville, AR

St. Francis National Forest: The Daily World, published daily (Sunday through Friday) in Helena, AR

Sylamore Ranger District: Stone County Leader, published weekly (Wednesday) in Mountain View, AR

National Forests and Grasslands in Texas, Texas

Forest Supervisor Decisions

The Lufkin Daily News, published daily in Lufkin, TX

District Ranger Decisions

Angelina National Forest: The Lufkin Daily News, published daily in Lufkin, TX

Caddo & LBJ National Grasslands: Denton Record-Chronicle, published daily in Denton, TX

Davy Crockett National Forest: The Lufkin Daily News, published daily in Lufkin, TX

Sabine National Forest: The Lufkin Daily News, published daily in Lufkin, TX

Sam Houston National Forest: The Courier, published daily in Conroe, TX

Dated: November 5, 2015.
Jerome Thomas,
Deputy Regional Forester.

[FR Doc. 2015-28900 Filed 11-12-15; 8:45 am]

BILLING CODE 3411-15-PA13NO3.